DEPARTMENT OF THE INTERIOR

Fish and Wildlife Service

Notice of Receipt of Applications for Permit

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address below) and must be received within 30 days of the date of this notice.

Applicant: Jeanne A. Mortimer/University of Florida, Gainesville, FL, PRT-811272.

The applicant requests re-issuance of a permit to import biological samples obtained from green sea turtles (Chelonia mydas) and hawksbill sea turtles (Eretmochelys imbricata) located on beaches or in waters on/around the Republic of Seychelles and Chagos Island, British Indian Ocean Territory, for scientific research. This notification covers activities conducted by the applicant over a five year period.

Applicant: Clifford G. McGehee, Jacksonville, FL, PRT-053223.

The applicant request a permit to import the sport-hunted trophy of one male bontebok (Damaliscus pygargus dorcas) culled from a captive herd maintained under the management program of the Republic of South Africa, for the purpose of enhancement of the survival of the species.

Applicant: Anthony Gioffre, Dublin, OH, PRT-053326.

The applicant request a permit to import the sport-hunted trophy of one male bontebok (Damaliscus pygargus dorcas) culled from a captive herd maintained under the management program of the Republic of South Africa, for the purpose of enhancement of the survival of the species.

Applicant: Savannah River Ecology Laboratory/University of Georgia, Aiken, SC, PRT-051521.

The applicant requests a permit to export biological samples from wood stork (Mycteria americana) collected in the wild in the United States, to the Universidade Federal de Sao Carlos, San Carlos, Brazil, for scientific research.

Applicant: Bonnie Ringo, Cave Junction, OR, PRT-049054.

The applicant requests a permit to export five captive-born white tigers (Panthera tigris) to the Zion Wildlife Gardens, Kerikeri, New Zealand, for the purpose of enhancement of the survival of the species.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: February 22, 2002.
Michael S. Moore,
Senior Permit Biologist, Branch of Permits, Division of Management Authority.

[FR Doc. 02-6731 Filed 3-19-02; 8:45 am]

BILLING CODE 4310-55-P